DEPARTMENT OF TRANSPORTATION

Federal Aviation Administration

14 CFR Part 95

[Docket No. 30261; Amdt. No. 430]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATE: 0901 UTC, September 6, 2001.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determine that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on July 27, 2001.
Nicholas A. Sabatini,
Director, Flight Standards Service.

Adoption of the Amendment

Accordingly, pursuant to the authority delegated to me by the Administrator, part 95 of the Federal Aviation Regulations (14 CFR part 95) is amended as follows effective at 0901 UTC, September 6, 2001.

PART 95—[AMENDED]

§§ 951001, 95.6001, 95.6004, 95.6007, 95.6023, 95.6037, 95.6053, 95.6054, 95.6070, 95.6078, 95.6120, 95.6123, 95.6137, 95.6139, 95.6161, 95.6290, 95.6298, 95.6321, 95.6333, 95.6355, 95.6372, 95.6376, 95.6402, 95.6440, 95.6483, 95.6495, 95.6514, 95.6521, 95.6566, 95.6568, 95.6569, 95.6583, 95.7001, 95.7713, 95.8003, and 95.8005 [Amended]

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 430 Effective Date, September 6, 2001]
From | To | MEA
§ 95.1001 Direct Routes—U.S.
Bahama Routes-062V Is Amended To Read in Part
FREEPORT, BS VOR/DME | JAKEL, BS FIX | *4000
*1400—MOCA
JAKEL, BS FIX | BERTH, BS FIX | *4000
*1300—MOCA
§ 95.6001 Victor Routes—U.S.
§ 95.6002 VOR Federal Airway 2 Is Amended To Read in Part
*SEATTLE, WA VORTAC | VAMPS, WA FIX
E BND |  | **8000
W BND |  | **4000
*4300—MCA SEATTLE, WA VORTAC E BND
*3100—MOCA
VAMPS, WA FIX | *BEEZR, WA FIX | 8000
*9000—MRA
BEEZR, WA FIX | ELLENSBURG, WA VORTAC | *8000
*6800—MOCA
§ 95.6004 VOR Federal Airway 4 Is Amended To Read in Part
TOTOOSH, WA VORTAC | JAWBN, WA FIX | *5400
*4600—MOCA
LOFAL, WA FIX | *SEATTLE, WA VORTAC | **4000
*5200—MCA SEATTLE VORTAC E BND
**2800—MOCA
BLAKO, WA FIX | HUMPP, WA FIX
E BND |  | *10000
W BND |  | *6400
*6200—MOCA
HUMPP, WA FIX | CHINS, WA FIX | *10000
*9000—MOCA
CHINS, WA FIX | TITON, WA FIX
E BND |  | *7000
W BND |  | *10000
*7000—MOCA
§ 95.6007 VOR Federal Airway 7 Is Amended To Read in Part
NITTS, FL FIX | *ORATE, FL FIX | **3000
*3000—MRA
**1600—MOCA
§ 95.6023 VOR Federal Airway 23 Is Amended To Read in Part
WHATCOM, WA VORTAC | VANCOUVER, CA VORTAC | 3000
§ 95.6037 VOR Federal Airway 37 Is Amended To Read in Part
COLUMBIA, SC VORTAC | *BLOTS, SC FIX | **4000
*4000—MRA
**2300—MOCA
BOLTS, SC FIX | *GREAT, SC FIX | **4000
*4000—MRA
**2300—MOCA
GREAT, SC FIX | RICHE, SC FIX | *4000
*2300—MOCA
§ 95.6053 VOR Federal Airway 53 Is Amended To Read in Part
COLUMBIA, SC VORTAC | *WIDER, SC FIX | **4000
*4000—MRA
**2300—MOCA
WIDER, SC FIX | *BUBBA, SC FIX | **4000
*4000—MRA
**2300—MOCA
BUBBA, SC FIX | WILLS, SC FIX | *4000
*2300—MOCA
§ 95.6054 VOR Federal Airway 54 Is Amended To Read in Part
DILLA, GA FIX | *SUNET, SC FIX | **8000
**8000—MRA
**6200—MOCA
SUNET, SC FIX | RESTS, SC FIX | *8000
*6200—MOCA
RESTS, SC FIX | CLEVA, SC FIX | *6000
*4700—MOCA
§ 95.6070 VOR Federal Airway 70 Is Amended To Read in Part
BROWNSVILLE, TX VORTAC | *MADRE, TX FIX | 1600
*5000—MRA
MADRE, TX FIX | *RAYMO, TX FIX | 1600
*5000—MRA
§ 95.6078 VOR Federal Airway 78 Is Amended To Read in Part
SCHOOLCRAFT COUNTY, MI VOR/DME | PELLSTON, MI VORTAC | 2600
§ 95.6120 VOR Federal Airway 120 Is Amended To Read in Part
*SEATTLE, WA VORTAC | TAGOR, WA FIX
E BND |  | **8500
W BND |  | **5000
*6300—MCA SEATTLE, WA VORTAC E BND
**5000—MOCA
TAGOR, WA FIX | CASHS, WA FIX | *12000
*11400—MOCA
MITCHELL, SD VOR/DME | FRYRE, SD FIX | 3700
§ 95.6123 VOR Federal Airway 123 Is Amended To Read in Part
HAARP, NY FIX | RYMES, NY FIX | *5000
*2000—MOCA
RYMES, NY FIX | CARMEL, NY VOR/DME | 2500
§ 95.6137 VOR Federal Airway 137 Is Amended To Read in Part
MORON, CA FIX | *ARRAN, CA FIX
*12000—MCA ARRAN FIX E BND
§ 95.6139 VOR Federal Airway 139 Is Amended To Read in Part
CAPE CHARLES, VA VORTAC | EWOOD, VA FIX | *2000
*1500—MOCA
EWOOD, VA FIX | SNOW HILL, MD VORTAC | *6000
*1500—MOCA
§ 95.6161 VOR Federal Airway 161 Is Amended To Read in Part
LLANO, TX VORTAC | *BUILT, TX FIX | **6000
*6000—MRA
**2800—MOCA
§ 95.6290 VOR Federal Airway 290 Is Amended To Read in Part
TAR RIVER, NC VORTAC | KENIR, NC FIX | *4000
*1500—MOCA
KENIR, NC FIX | PUNGO, NC FIX | *5000
*1500—MOCA
§ 95.6298 VOR Federal Airway 298 Is Amended To Read in Part
*SEATTLE, WA VORTAC | VAMPS, WA FIX
W BND |  | *4000
E BND |  | **8000
*4300—MCA SEATTLE, WA VORTAC E BND
**3100—MOCA
§ 95.6321 VOR Federal Airway 321 Is Amended To Read in Part
*PREST, GA FIX | **COLUMBUS, GA VORTAC | ***5000
*5000—MCA PREST FIX NW BND
**5000—MCA COLUMBUS VORTAC SE BND
***3300—MOCA
§ 95.6333 VOR Federal Airway 333 Is Amended To Read in Part
CHOO CHOO, TN VORTAC | *BOOPS, TN FIX
*4500—MRA
§ 95.6355 VOR Federal Airway 355 Is Amended To Read in Part
BOWIE, TX VORTAC | WICHITA FALLS, TX VORTAC | 3100
§ 95.6372 VOR Federal Airway 372 Is Amended To Read in Part
KAYOH, CA FIX | *HOMELAND, CA VOR
*11200—MCA HOMELAND VOR NE BND
§ 95.6376 VOR Federal Airway 376 Is Amended To Read in Part
RICHMOND, VA VORTAC | GRUBY, VA FIX | 2000
GRUBY, VA FIX | IRONS, MD FIX | *2500
*1700—MOCA
§ 95.6402 VOR Federal Airway 402 Is Amended To Read in Part
MOSER, TX FIX | PANHANDLE, TX VORTAC | *6000
*5200—MOCA
PANHANDLE, TX VORTAC | *BRISC, TX FIX | **7000
*7000—MRA
**4800—MOCA
§ 95.6440 VOR Federal Airway 440 Is Amended To Read in Part
PANHANDLE, TX VORTAC | *BRISC, TX FIX | **7000
*7000—MRA
**4800—MOCA
§ 95.6483 VOR Federal Airway 483 Is Amended To Read in Part
DEER PARK, NY VOR/DME | RYMES, NY FIX | *2500
*2000—MOCA
RYMES, NY FIX | CARMEL, NY VOR/DME | 2500
§ 95.6495 VOR Federal Airway 495 Is Amended To Read in Part
CORVALLIS, OR VOR/DME | ADLOW, OR FIX | 4000
ADLOW, OR FIX | NEWBERG, OR VOR/DME | *4000
*3400—MOCA
BATTLE GROUND, WA VORTAC | *TOUTL, WA FIX
N BND |  | **9000
S BND |  | **5000
*8500—MRA
**5000—MOCA
ALDER, WA FIX | CIDUG, WA FIX
N BND |  | *5000
S BND |  | *9000
*4000—MOCA
CIDUG, WA FIX | SEATTLE, WA VORTAC | *5000
*3000—MOCA
SEATTLE, WA VORTAC | LOFAL, WA FIX | *4000
*2800—MOCA
U.S. CANADIAN BORDER | WHATCOM, WA VORTAC | *3000
*1900—MOCA
§ 95.6514 VOR Federal Airway 514 Is Amended To Read in Part
JULIAN, CA VORTAC | WARNE, CA FIX
SW BND |  | 8000
NE BND |  | 9000
§ 95.6521 VOR Federal Airway 521 Is Amended To Read in Part
NITTS, FL FIX | *ORATE, FL FIX | **3000
*3000—MRA
**1600—MOCA
§ 95.6566 VOR Federal Airway 566 Is Amended To Read in Part
KNELT, LA FIX | COVEX, LA FIX | *3500
*1800—MOCA
§ 95.6568 VOR Federal Airway 568 Is Amended To Read in Part
LLANO, TX VORTAC | *BUILT, TX FIX | **6000
*6000—MRA
**2800—MOCA
MILLSAP, TX VORTAC | KARYN, TX FIX | 3000
KARYN, TX FIX | WICHITA FALLS, TX VORTAC | 3100
§ 95.6569 VOR Federal Airway 569 Is Amended To Read in Part
FRANKSTON, TX VOR/DME | CEDAR CREEK, TX VORTAC | 2000
§ 95.6583 VOR Federal Airway 583 Is Amended To Read in Part
PARIS, TX VOR/DME | MC ALESTER, OK VORTAC | *3000
*2500—MOCA

From | To | MEA | MAA
§ 95.7001 Jet Routes
§ 95.7713 Jet Route No. 713 Is Added To Read
SALT LAKE CITY, UT VORTAC | BIG PINEY, WY VOR/DME | 26000 | 45000
BIG PINEY, WY VOR/DME | BOYSEN RESERVOIR, WY VOR/DME | 18000 | 45000
BOYSEN RESERVOIR, WY VOR/DME | BILLINGS, MT VORTAC | 18000 | 45000

Airway segment: From | Airway segment: To | Changeover points: Distance | Changeover points: From
§ 95.8003 VOR Federal Airway Changeover Points Is Amended To Modify Changeover Point V-23
GORMAN, CA VORTAC | SHAFTER, CA VORTAC | 10 | GORMAN
Is Amended To Add Changeover Point V-139
CAPE CHARLES, VA VORTAC | SNOW HILL, MD VORTAC | 33 | CAPE CHARLES
Is Amended To Add Changeover Point V-283
HECTOR, CA VORTAC | BOULDER CITY, NV VORTAC | 23 | HECTOR
§ 95.8005 Jet Routes Changeover Points Is Amended To Add Changeover Point J-713
SALT LAKE CITY, UT VORTAC | BIG PINEY, WY VOR/DME | 40 | SALT LAKE CITY

[FR Doc. 01-19156 Filed 08-01-01; 8:45 am]

BILLING CODE 4910-13-M